DEPARTMENT OF STATE

[Public Notice 7641]

Bureau of Educational and Cultural Affairs Request for Grant Proposals; Global Undergraduate Exchange Program in Serbia and Montenegro

NOTICE: Amendment to original Request for Grant Proposals.

SUMMARY: The United States Department of State, Bureau of Educational and Cultural Affairs, announces revisions to the original Request for Grant Proposals (RFGP) announced in the Federal Register on September 29, 2011 (Volume 76, Number 189):

(1) Deadline for proposals has been moved from Thursday, November 24, 2011 to Friday, November 25, 2011, due to the fact that November 24, 2011 is a Federal holiday. All other terms and conditions of the original announcement remain the same.

(2) The Agency Contact responsible for this program has been updated to reflect Michaela S. Iovine, Ph.D., Office of Academic Exchange Programs, ECA/A/E/EUR, U.S. Department of State, 2200 C Street, NW., Washington, DC 20037, (202)-632-3256, e-mail: IovineMS@state.gov.

SUPPLEMENTARY INFORMATION: Interested organizations should contact Michaela Iovine, U.S. Department of State, Office of Academic Exchange Programs, Europe Branch (ECA/A/E/EUR), (202) 632-3256 prior to the amended deadline of November 25, 2011.

Dated: October 3, 2011.
J. Adam Ereli,
Principal Deputy Assistant Secretary, Bureau of Educational and Cultural Affairs, U.S. Department of State.

[FR Doc. 2011-26379 Filed 10-11-11; 8:45 am]

BILLING CODE 4710-11-P